ENVIRONMENTAL PROTECTION AGENCY

[FRL-7539-9]

Investigator Initiated Grants: Request for Applications

AGENCY: Environmental Protection Agency.

ACTION: Notice of requests for applications.

SUMMARY: This notice provides information on the availability of fiscal year 2003 investigator initiated grants program announcements, in which the areas of research interest, eligibility and submission requirements, evaluation criteria, and implementation schedules are set forth. Grants will be competitively awarded following peer review.

DATES: Receipt dates vary depending on the specific research areas within the solicitations.

SUPPLEMENTARY INFORMATION: In its Requests for Applications (RFA) the U.S. Environmental Protection Agency invites research applications in the following areas of special interest to its mission: (1) Impacts of Manufactured Nanomaterials on Human Health and the Environment, (2) Market Mechanisms and Incentives for Environmental Management, (3) Environmental Statistics Research: Novel Analyses of Human Exposure Related Data (with ACC), (4) Computational Toxicology and Endocrine Disruptors: Use of Systems Biology in Hazard Identification and Risk Assessment , and (5) The Role of Air Pollutants in Cardiovascular Disease (with NIEHS)

Contacts: (1) Impacts of Manufactured Nanomaterials on Human Health and the Environment karn.barbara@epa.gov, (2) Market Mechanisms and Incentives for Environmental Management, clark.matthew@epa.gov, (3) Environmental Statistics Research: Novel Analyses of Human Exposure Related Data (with ACC), saint.chris@epa.gov, (4) Computational Toxicology and Endocrine Disruptors: Use of Systems Biology in Hazard Identification and Risk Assessment, francis.elaine@epa.gov, and (5) The Role of Air Pollutants in Cardiovascular Disease (with NIEHS), katz.stacey@epa.gov,.

FOR FURTHER INFORMATION CONTACT: The complete program announcement can be accessed on the Internet at http://www.epa.gov/ncer, under “announcements.” The required forms for applications with instructions are accessible on the Internet at http://es.epa.gov/ncer/rfa/forms/downlf.html. Forms may be printed from this site.

Dated: July 24, 2003.
Approved for publication.
John C. Puzak,
Acting Director, National Center for Environmental Research.

[FR Doc. 03-19918 Filed 8-4-03; 8:45 am]

BILLING CODE 6560-50-P